Proclamation 10541 of March 31, 2023

Month of the Military Child, 2023

By the President of the United States of America

A Proclamation

This month, we honor the over 2 million children of our service members and veterans, whose support and sacrifice help keep our military strong and our Nation secure. These young Americans already understand what it means to serve, shouldering the unique demands of military life with courage and tenacity.

Whenever the First Lady and I meet with military children, we are amazed by their strength and selflessness. Most of these young patriots uproot their lives every few years—starting at new schools, making new friends, and learning new cultures and customs in different corners of the country and around the globe. They often celebrate birthdays and holidays with an empty seat at the dinner table. Many have marked graduations without one of their biggest fans in the crowd. So often, these children serve as Hidden Helpers, becoming caregivers for their wounded, ill, or injured loved ones—and far too many have grown up with the enduring grief of having lost a parent.

As a Nation, we have many obligations, but we have only one truly sacred obligation: to prepare our troops we send into harm's way and to care for them and their families while they are deployed and when they return home. Our military-connected children are at the heart of this sacred obligation. My Administration is stepping up to meet this obligation. We have expanded the Military Parental Leave Program, which enables service members to spend needed time with their families following a child's birth, adoption, or placement for long-term foster care. Through the Joining Forces initiative, the First Lady is leading our efforts to support military-connected children in their classrooms and help ease the burdens created by the highly mobile military lifestyle. We are also investing to provide their parents with access to affordable, quality child care.

The English poet John Milton once wrote, “They also serve who only stand and wait.” Every day, military-connected children stand tall with pride for their parents and our Nation. They make sacrifices—big and small—so their parents can continue to serve and protect this country. These young people represent the very best of America, and we will always be grateful for their service to our Nation. May God bless our troops and their families, caregivers, and survivors.

NOW, THEREFORE, I, JOSEPH R. BIDEN JR., President of the United States of America, by virtue of the authority vested in me by the Constitution and laws of the United States, do hereby proclaim April 2023 as the Month of the Military Child. I call upon the people of the United States to honor the children of our service members and veterans with appropriate ceremonies and activities. I also encourage Americans everywhere to find ways to support military-connected children, including by wearing purple during the month of April in honor of their service.

IN WITNESS WHEREOF, I have hereunto set my hand this thirty-first day of March, in the year of our Lord two thousand twenty-three, and of the Independence of the United States of America the two hundred and forty-seventh.

[FR Doc. 2023-07309

Filed 4-4-23; 11:15 am]

Billing code 3395-F3-P